DEPARTMENT OF ENERGY

Office of Energy Efficiency and Renewable Energy; Carbon Nanotubes for On-Board Hydrogen Storage Go/No-Go Decision

AGENCY: Office of Energy Efficiency and Renewable Energy, Department of Energy (DOE).

ACTION: Notice of request for technical input to go/no-go decision.

SUMMARY: The Department of Energy (the Department or DOE), Hydrogen, Fuel Cells and Infrastructure Technologies Program, is requesting position papers or other technical documentation regarding carbon nanotubes for on-board hydrogen storage systems by September 15, 2006. This information will be used as part of DOE's go/no-go process in determining the future of applied research and development of carbon nanotubes for on-board hydrogen storage.

DATES: Written position papers or other technical documentation for consideration by the Department regarding this decision are welcome. Documents may be submitted via e-mail or as hard copies but must be received by September 15, 2006.

ADDRESSES: For hard copies, please submit 2 copies of all documents to: U.S. Department of Energy, Office of Energy Efficiency and Renewable Energy, Mail Station EE-2H, Attn: Dr. Sunita Satyapal, 1000 Independence Avenue, SW., Washington, DC 20585-0121. For e-mail submissions, send documents to brinda.thomas@ee.doe.gov and laura.verduzco@ee.doe.gov.

FOR FURTHER INFORMATION CONTACT: Dr. Sunita Satyapal, U.S. Department of Energy, Office of Energy Efficiency and Renewable Energy, Mail Station EE-2H, 1000 Independence Avenue, SW., Washington, DC 20585-0121, Phone: (202) 586-2336, e-mail: sunita.satyapal@ee.doe.gov.

SUPPLEMENTARY INFORMATION: The mission of the Department of Energy's Hydrogen, Fuel Cells and Infrastructure Technologies Program is to research, develop and validate fuel cell and hydrogen production, delivery, and storage technologies, such that hydrogen from diverse domestic resources will be used in a clean, safe, reliable and affordable manner in fuel cell vehicles, central station electric power production, distributed thermal electric, and combined heat and power applications. The President's Hydrogen Fuel Initiative, launched in 2003, accelerates research, development and demonstration of hydrogen production, delivery and storage technologies to enable technology readiness. A critical requirement for achieving technology readiness is the development of on-board hydrogen storage systems with enough storage capacity to meet driving range expectations (more than 300 miles in the United States), while meeting a number of requirements such as weight, volume and cost. Detailed technical targets developed by DOE, with input through the FreedomCAR and Fuel Partnership, are available at: http://www1.eere.energy.gov/hydrogenandfuelcells/mypp/pdfs/storage.pdf.

The DOE Hydrogen Program initiated research to develop single wall carbon nanotubes as a storage medium for hydrogen in the early 1990s. At that time, the overall Program had limited resources and storage research and development (R&D) was limited to just a few material classes. Initial hydrogen capacity measurements on nanotubes had appeared promising, but some of these results were subsequently found not to be reproducible. Uncertainty in the performance of carbon nanotubes as a storage material grew as other research groups initiated their own efforts on this material and published hydrogen capacity results ranging from 0 to well over 6 wt.%. Importantly, the differences in hydrogen capacity could not be correlated with specific carbon nanotube synthesis methods or with various properties of the carbon nanotube structure. Although the number of publications and the worldwide level of effort on carbon nanotube R&D have continued to grow and important progress has been achieved, uncertainties remain concerning hydrogen storage capacity.

Subsequent to the DOE's no-go decision for on-board fuel processing of gasoline in 2004 (see: http://www1.eere.energy.gov/hydrogenandfuelcells/pdfs/committee_report.pdf), the strategy for fueling fuel cell vehicles shifted from an on-board reformer-based fuel system to the development of technologies and infrastructure to produce, store, and distribute hydrogen for on-board storage and use in direct-hydrogen fuel cell vehicles. Development of viable on-board hydrogen storage systems became a critical element within the Program. Consequently, the hydrogen storage Program has greatly expanded and restructured into a “National Hydrogen Storage Project” including three Centers of Excellence and independent projects covering a diverse portfolio of hydrogen storage R&D. Each Center of Excellence is focusing on a class of storage materials—metal (reversible) hydrides, chemical hydrides (non-reversible) and carbon (and other hydrogen adsorbent) materials—and each has university, industry and national lab partners pursuing and leveraging their specific expertise in different areas. The Program has also expanded basic science efforts and coordination between DOE's Office of Energy Efficiency and Renewable Energy and Office of Science (see www.hydrogen.energy.gov).

Within the current storage sub-Program portfolio, there are a number of promising storage materials being studied which have the potential for hydrogen storage capacities comparable to, or greater than initially envisioned for carbon nanotubes. For example, modeling studies of metal-modified carbon fullerene structures suggest that they hold promise for achieving high hydrogen capacities. Non-carbon structures, such as metal-oxide frameworks, are also being pursued in the Center of Excellence for carbon-based materials. On-board hydrogen storage systems must be developed which are safe, low cost and have high volumetric and gravimetric energy capacities. Periodic assessments and decision points on specific material technologies are included within the hydrogen storage sub-Program to meet the required performance targets within the Program timeframe.

The DOE will make a decision regarding the future of pure carbon nanotubes for on-board hydrogen storage activities within the Hydrogen, Fuel Cells and Infrastructure Technologies Program in October 2006. DOE will review the current state of carbon nanotube activities against technical criteria and base its pure carbon single-wall nanotube go/no-go decision on an analysis of:

(1) The technical progress to date on the demonstrated capacity for hydrogen storage in pure, undoped carbon single-walled nanotubes (SWNTs) and whether SWNTs have met the criterion of 6 weight percent hydrogen storage (on a materials basis) at room temperature, and

(2) Whether a technically viable pathway exists to meet the original criterion of 6 weight percent at room temperature using either pure, undoped SWNTs or a “hybrid” approach (e.g., metal doped nanotubes).

DOE will consider whether its 2007 or 2010 system targets can be met using available pure nanotube technology as demonstrated on the laboratory scale. A single system that meets all criteria simultaneously is desired; however, if integration with other technologies is needed to simultaneously meet all targets, the technologies must be compatible.

DOE will also take into consideration input on the following:

(1) Whether hydrogen adsorption in carbon nanotubes at low temperature (77 K) should be considered at this early stage of the DOE R&D Program (although the original criterion of 6 weight percent was at room temperature), and

(2) Whether SWNTs may be used as model materials for fundamental research, theoretical simulation and an improved understanding of nanoscale hydrogen storage mechanisms and the interplay between factors such as charge/discharge efficiency, thermodynamics/kinetics considerations, and volumetric/gravimetric capacities.

Position papers or other technical documents relevant to the go/no-go decision will be accepted by DOE for consideration in this decision. Position papers are limited to 10 pages maximum, and should contain a cover page with a point of contact, company name, address and e-mail address. The cover page will not be counted in the 10 page limitation. Technical documents, such as published journal articles or preprints, are not restricted to the page limit. Position papers and other technical documents will be made available to the public and should not contain any proprietary information.

For more information about the Hydrogen, Fuel Cells and Infrastructure Technologies Program and related on-board hydrogen storage activities visit the Program's Web site at www.eere.energy.gov/hydrogenandfuelcells.

Issued in Golden, CO on August 10, 2006.
Matthew A. Barron,
Acting Procurement Director, Golden Field Office.

[FR Doc. E6-14047 Filed 8-23-06; 8:45 am]

BILLING CODE 6450-01-P